DEPARTMENT OF THE INTERIOR

National Park Service

[N6611; NPS-WASO-NAGPRA-NPS0041342; PPWOCRADN0-PCU00RP14.R50000]

Notice of Inventory Completion: Columbus-Belmont State Park, Kentucky State Parks, Columbus, KY

AGENCY: National Park Service, Interior.

ACTION: Notice.

SUMMARY: In accordance with the Native American Graves Protection and Repatriation Act (NAGPRA), Columbus-Belmont State Park, Kentucky State Parks, has completed an inventory of human remains and has determined that there is a cultural affiliation between the human remains and Indian Tribes or Native Hawaiian organizations in this notice.

DATES: Repatriation of the human remains in this notice may occur on or after January 15, 2026.

ADDRESSES: Send written requests for repatriation of the human remains in this notice to Jennifer Spence, Parks Curator, Kentucky State Parks, Mayo-Underwood Building, 5th Floor, 500 Mero Street, Frankfort, KY 40601 email jennifer.spence@ky.gov.

SUPPLEMENTARY INFORMATION: This notice is published as part of the National Park Service's administrative responsibilities under NAGPRA. The determinations in this notice are the sole responsibility of Columbus-Belmont State Park, Kentucky State Parks, and additional information on the determinations in this notice, including the results of consultation, can be found in its inventory or related records. The National Park Service is not responsible for the determinations in this notice.

Abstract of Information Available

Human remains representing three individuals have been identified. Based on institutional knowledge, the remains were originally removed from a mound in Hickman County, Kentucky. They were curated for many years at the museum at Columbus-Belmont State Park before being transferred in 2001 to the William S. Webb Museum of Anthropology at the University of Kentucky in Lexington, where they remain in storage. There is no indication that any potentially hazardous substances were used to treat the remains.

Cultural Affiliation

Based on the information available and the results of consultation, cultural affiliation is reasonably identified by the geographical location of the human remains described in this notice.

Determinations

Columbus-Belmont State Park, Kentucky State Parks, has determined that:

• The human remains described in this notice represent the physical remains of three individuals of Native American ancestry.

• There is a connection between the human remains described in this notice and the Cherokee Nation; Eastern Shawnee Tribe of Oklahoma; Quapaw Nation; Shawnee Tribe; and The Chickasaw Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 15, 2026. If competing requests for repatriation are received, Columbus-Belmont State Park, Kentucky State Parks must determine the most appropriate requestor prior to repatriation. Requests for joint repatriation of the human remains are considered a single request and not competing requests. Columbus-Belmont State Park, Kentucky State Parks, is responsible for sending a copy of this notice to the Indian Tribes and Native Hawaiian organizations identified in this notice and any other consulting parties.

Authority: Native American Graves Protection and Repatriation Act, 25 U.S.C. 3003, and the implementing regulations, 43 CFR 10.10.

Dated: November 17, 2025.
Melanie O'Brien,
Manager, National NAGPRA Program.

[FR Doc. 2025-22886 Filed 12-15-25; 8:45 am]

BILLING CODE 4312-52-P